DEPARTMENT OF COMMERCE

International Trade Administration

[A-588-838]

Clad Steel Plate from Japan; Final Results of the Expedited Sunset Review (Second Review) of the Antidumping Duty Order

AGENCY: Import Administration, International Trade Administration, Department of Commerce.

SUMMARY: On October 2, 2006, the Department of Commerce (the Department) initiated the second sunset review of the antidumping duty order on clad steel plate from Japan pursuant to section 751(c) of the Tariff Act of 1930, as amended (the Act). On the basis of a notice of intent to participate and a complete substantive response filed on behalf of the domestic interested parties, and no response from respondent interested parties, the Department conducted an expedited sunset review of the antidumping duty order pursuant to section 751(c)(3)(B) of the Act and 19 CFR 351.218(e)(1)(ii)(B). As a result of this sunset review, the Department finds that revocation of the order would be likely to lead to continuation or recurrence of dumping at the levels indicated in the “Final Results of Review” section of this notice.

EFFECTIVE DATE: January 31, 2007.

FOR FURTHER INFORMATION CONTACT: Nichole Zink or Brandon Farlander, AD/CVD Operations, Import Administration, International Trade Administration, U.S. Department of Commerce, 14th Street & Constitution Avenue, NW, Washington, DC 20230; telephone: (202) 482-0049 and (202) 482-0182, respectively.

SUPPLEMENTARY INFORMATION:

Background

On October 2, 2006, the Department of Commerce initiated a sunset review of the antidumping duty order on clad steel plate from Japan pursuant to section 751(c) of the Act. See Initiation of Five-year (Sunset) Reviews, 71 FR 57921 (October 2, 2006) (Notice of Initiation). The Department received a notice of intent to participate from the domestic parties, Mittal Steel USA (Mittal Steel) and United Steel, Paper and Forestry, Rubber, Manufacturing, Energy, Allied Industrial and Service Workers International Union, AFL-CIO-CLC (USW), within the deadline specified in 19 CFR 351.218(d)(1)(i). Mittal Steel claims interested party status under section 771(9)(C) of the Act as a domestic manufacturer of clad steel plate. USW claims interested party status under section 771(9)(D) of the Act as a certified union or recognized union group of workers which is representative of an industry engaged in the manufacture, production, or wholesale in the United States of clad steel products.

The Department received a complete substantive response from Mittal Steel within the 30-day deadline specified in 19 CFR 351.218(d)(3)(i). We did not receive a substantive response from respondent interested parties in this proceeding. As a result, pursuant to 19 CFR 351.218(e)(1)(iii)(C), the Department determined that it was appropriate to conduct an expedited 120-day sunset review of this antidumping duty order.

Scope of the Order

The scope of this order is all clad¹ steel plate of a width of 600 millimeters (mm) or more and a composite thickness of 4.5 mm or more. Clad steel plate is a rectangular finished steel mill product consisting of a layer of cladding material (usually stainless steel or nickel) which is metallurgically bonded to a base or backing of ferrous metal (usually carbon or low alloy steel) where the latter predominates by weight.

¹ Cladding is the association of layers of metals of different colors or natures by molecular interpenetration of the surfaces in contact. This limited diffusion is characteristic of clad products and differentiates them from products metalized in other manners (e.g., by normal electroplating). The various cladding processes include pouring molten cladding metal onto the basic metal followed by rolling; simple hot-rolling of the cladding metal to ensure efficient welding to the basic metal; any other method of deposition of superimposing of the cladding metal followed by any mechanical or thermal process to ensure welding (e.g., electrocladding), in which the cladding metal (nickel, chromium, etc.) is applied to the basic metal by electroplating, molecular interpenetration of the surfaces in contact then being obtained by heat treatment at the appropriate temperature with subsequent cold rolling. See Harmonized Commodity Description and Coding System Explanatory Notes, Chapter 72, General Note (IV) (C) (2) (e).

Stainless clad steel plate is manufactured to American Society for Testing and Materials (ASTM) specifications A263 (400 series stainless types) and A264 (300 series stainless types). Nickel and nickel-base alloy clad steel plate is manufactured to ASTM specification A265. These specifications are illustrative but not necessarily all-inclusive.

Clad steel plate within the scope of this order is classifiable under the Harmonized Tariff Schedule of the United States (HTSUS) 7210.90.10.00. Although the HTSUS subheading is provided for convenience and customs purposes, our written description of the scope of this order is dispositive.

Analysis of Comments Received

All issues raised in this review are addressed in the “Issues and Decision Memorandum for the Final Results of the Expedited Second Sunset Review of the Antidumping Duty Order on Clad Steel Plate from Japan” (Decision Memo) from Stephen J. Claeys, Deputy Assistant Secretary for Import Administration, to David M. Spooner, Assistant Secretary for Import Administration, which is hereby adopted by this notice. The issues discussed in the Decision Memo include the likelihood of continuation or recurrence of dumping and the magnitude of the margins likely to prevail if the order were revoked. Parties can find a complete discussion of all issues raised in this review and the corresponding recommendations in this public memorandum, which is on file in room B-099 of the main Commerce building.

In addition, a complete version of the Decision Memo can be accessed directly on the Web at http://ia.ita.doc.gov/frn. The paper copy and electronic versions of the Decision Memo are identical in content.

Final Results of Review

The Department determines that revocation of the antidumping duty order on clad steel plate from Japan would be likely to lead to continuation or recurrence of dumping at the rates listed below:

Producers/Exporters | Margin (percent)
The Japan Steel Company | 118.53
All Others | 118.53

Notification regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act.

Dated: January 25, 2007.
David M. Spooner,
Assistant Secretary for Import Administration.

[FR Doc. E7-1571 Filed 1-30-06; 8:45 am]

BILLING CODE 3510-DS-S